ENVIRONMENTAL PROTECTION AGENCY

40 CFR Part 52

[MO 108-1108; FRL-6890-3]

Approval and Promulgation of Implementation Plans; State of Missouri

AGENCY: Environmental Protection Agency (EPA).

ACTION: Direct final rule.

SUMMARY: EPA is approving an amendment to the Missouri State Implementation Plan (SIP) pertaining to a revision to a St. Louis city ordinance and to a revision and revocation of three St. Louis city issued incinerator permits. The effect of this action is to ensure Federal enforceability of the local agency's air program rules and to maintain consistency between the local agency adopted rules and the approved SIP.

DATES: This rule is effective on December 26, 2000, without further notice, unless EPA receives adverse written comment by November 27, 2000. If EPA receives such comments, it will publish a timely withdrawal of the direct final rule in the Federal Register and inform the public that the rule will not take effect.

ADDRESSES: Written comments must be submitted to Wayne Kaiser, Air Planning and Development Branch, 901 North 5th Street, Kansas City, Kansas 66101.

Copies of documents relative to this action are available for public inspection during normal business hours at the above listed Region 7 location. The interested persons wanting to examine these documents should make an appointment with the office at least 24 hours in advance.

FOR FURTHER INFORMATION CONTACT: Wayne Kaiser at (913) 551-7603.

SUPPLEMENTARY INFORMATION: Throughout this document whenever “we, us, or our” is used, we mean EPA. This section provides additional information by addressing the following questions:

What Is a SIP?

What Is the Federal Approval Process for a SIP?

What Does Federal Approval of a State Regulation Mean to Me?

What Is Being Addressed in This Document?

Have the Requirements for Approval of a SIP Revision Been Met?

What Action Is EPA Taking?

What Is a SIP?

Section 110 of the Clean Air Act (CAA) requires states to develop air pollution regulations and control strategies to ensure that state air quality meets the national ambient air quality standards established by EPA. These ambient standards are established under section 109 of the CAA, and they currently address six criteria pollutants. These pollutants are: Carbon monoxide, nitrogen dioxide, ozone, lead, particulate matter, and sulfur dioxide.

Each state must submit these regulations and control strategies to EPA for approval and incorporation into the Federally enforceable SIP.

Each Federally approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally approved SIP. Records of such SIP actions are maintained in the Code of Federal Regulations (CFR) at Title 40, part 52, entitled “Approval and Promulgation of Implementation Plans.” The actual state regulations which are approved are not reproduced in their entirety in the CFR outright but are “incorporated by reference,” which means that we have approved a given state regulation with a specific effective date.

What Does Federal Approval of a State Regulation Mean to Me?

Enforcement of the state regulation before and after it is incorporated into the Federally approved SIP is primarily a state responsibility. However, after the regulation is Federally approved, we are authorized to take enforcement action against violators. Citizens are also offered legal recourse to address violations as described in section 304 of the CAA.

What Is Being Addressed in This Document?

On May 22, 2000, we received a request from the Missouri Department of Natural Resources (MDNR) to amend the SIP to approve revisions to a St. Louis city ordinance and incinerator permits.

On April 22, 1998, (63 FR 19823) EPA approved a revision to the Missouri SIP which incorporated two sections of St. Louis City air pollution control Ordinance No. 59270. These two sections pertained to open burning restrictions and related definitions. In the same action, EPA also approved three medical waste incinerator permits issued by the city of St. Louis.

In 1999, the city updated the provisions of this Ordinance by adopting replacement Ordinance No. 64749. A few of the revisions in the new Ordinance pertained to the SIP-approved sections mentioned above. SIP-approved revisions in the new Ordinance consist of renumbering of the definitions and the addition of a definition for vegetation. In order to maintain consistency between the local agency approved SIP rules and the Federally approved SIP, the city requested that the state submit the relevant provisions of the new Ordinance as a SIP revision and that EPA rescind approval of the old Ordinance. At the same time, the city determined that two of the SIP approved incinerator permits were no longer necessary since the sources were closed. The city subsequently revoked the permits for these sources and as part of this submittal has requested that these permits be rescinded from the SIP. Finally, the third permit was modified to update a reference to the Ordinance number. This modification was accomplished by way of a letter from the St. Louis Division of Air Pollution Control to Tim Hill, Energy Center Director, St. Louis University Hospital, St. Louis, Missouri, dated January 31, 2000.

With respect to the air pollution control revisions in Ordinance No. 64749, EPA is approving the following: Section 7—Definitions; Open burning, Refuse (omitting the phrase “other than liquids or gases”), Salvage operation, Trade waste, Vegetation, and Section 17—Open Burning Restrictions.

With respect to the incinerator permits, EPA is approving the state's request to remove from the SIP permits numbered 96-10-083 and 96-10-084 issued to Washington University School of Medicine, and is approving the revision contained in the city's letter of January 31, 2000, for the St. Louis University Hospital incinerator.

A technical support document (TSD) containing additional information and background material for this action has been prepared and is available from the EPA contact listed above.

Have the Requirements for Approval of a SIP Revision Been Met?

The state submittal has met the public notice requirements for SIP submissions in accordance with 40 CFR 51.102. The submittal also satisfied the completeness criteria of 40 CFR part 51, appendix V. In addition, as explained above and in more detail in the TSD which is part of this document, the revision meets the substantive SIP requirements of the CAA, including section 110 and implementing regulations.

What Action Is EPA Taking?

We are processing this action as a final action because the revisions make routine changes to the existing SIP which are noncontroversial. Therefore, we do not anticipate any adverse comments.

Conclusion

We are approving the state's request to amend the SIP by rescinding the SIP approved provisions of St. Louis City Ordinance No. 59270 and concurrently approving in Ordinance No. 64794, certain definitions in section 7—Definitions, and section 17—Open Burning. We are also approving a revision to the incinerator permit for St. Louis University Hospital, and deleting two incinerator permits for Washington University School of Medicine.

Administrative Requirements

Under Executive Order 12866 (58 FR 51735, October 4, 1993), this action is not a “significant regulatory action” and therefore is not subject to review by the Office of Management and Budget. This action merely approves state law as meeting Federal requirements and imposes no additional requirements beyond those imposed by state law. Accordingly, the Administrator certifies that this rule will not have a significant economic impact on a substantial number of small entities under the Regulatory Flexibility Act (5 U.S.C. 601 et seq.). Because this rule approves preexisting requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655, May 10, 1998). This rule will not have substantial direct effects on the states, on the relationship between the national government and the states, or on the distribution of power and responsibilities among the various levels of government, as specified in Executive Order 13132 (64 FR 43255, August 10, 1999), because it merely approves a state rule implementing a Federal standard, and does not alter the relationship or the distribution of power and responsibilities established in the CAA. This rule also is not subject to Executive Order 13045 (62 FR 19885, April 23, 1997), because it is not economically significant.

In reviewing SIP submissions, our role is to approve state choices, provided that they meet the criteria of the CAA. In this context, in the absence of a prior existing requirement for the state to use voluntary consensus standards (VCS), we have no authority to disapprove a SIP submission for failure to use VCS. It would thus be inconsistent with applicable law for EPA, when it reviews a SIP submission, to use VCS in place of a SIP submission that otherwise satisfies the provisions of the CAA. Thus, the requirements of section 12(d) of the National Technology Transfer and Advancement Act of 1995 (15 U.S.C. 272 note) do not apply. As required by section 3 of Executive Order 12988 (61 FR 4729, February 7, 1996), in issuing this rule, we have taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the Executive Order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. We will submit a report containing this rule and other required information to the United States Senate, the United States House of Representatives, and the Comptroller General of the United States prior to publication of the rule in the Federal Register. A major rule cannot take effect until 60 days after it is published in the Federal Register. This action is not a “major rule” as defined by 5 U.S.C. 804(2).

Under section 307(b)(1) of the CAA, petitions for judicial review of this action must be filed in the United States Court of Appeals for the appropriate circuit by December 26, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects 40 CFR Part 52

Environmental protection, Air pollution control, Carbon monoxide, Hydrocarbons, Incorporation by reference, Intergovernmental relations, Lead, Nitrogen dioxide, Ozone, Particulate matter, Reporting and recordkeeping requirements, Sulfur oxides.

Authority: 42 U.S.C. 7401 et seq.

Dated: October 6, 2000.
William Rice,
Acting Regional Administrator, Region 7.

Chapter I, title 40 of the Code of Federal Regulations is amended as follows:

PART 52—[AMENDED]

1. The authority citation for part 52 continues to read as follows:

Authority: 42 U.S.C. 7401 et seq.

Subpart AA—Missouri

2. Section 52.1320(c) is amended by removing the heading and entries for “St. Louis City Ordinance 59270” and adding in its place the new heading and entries shown below.

§ 52.1320 Identification of plan.

* * * * *

(c) * * *

EPA-Approved Missouri Regulations
Missouri citation | Title | State effective date | EPA approval date | Explanation
* * * * * * *
St. Louis City Ordinance 64749
Section 7 | Definitions | 4/27/00 | 10/26/00 and FR cite | The phrase “other than liquids or gases” in the Refuse definition has not been approved.
Section 17 | Open Burning | 4/27/00 | 10/26/00 and FR cite

3. Section 52.1230(d) is amended under the heading “St. Louis City Incinerator Permits” by deleting the two entries for Washington University School of Medicine and adding an entry at the end of the table for St. Louis University.

(d) * * *

EPA—Approved State Source-Specific Permits and Orders
Name of source | Order/permit No. | State effective date | EPA approval date | Explanation
* * * * * * *
St. Louis University | Permit Matter No. 00-01-004 | 1/31/00 | 10/26/00 and FR cite

* * * * *

[FR Doc. 00-27146 Filed 10-25-00; 8:45 am]

BILLING CODE 6560-50-U